DEPARTMENT OF ENERGY

Certification of the Radiological Condition of the Ventron Site in Beverly, MA

AGENCY: Department of Energy.

ACTION: Notice of certification.

SUMMARY: The Department of Energy (DOE) has completed remedial actions to decontaminate the Ventron site in Beverly, Massachusetts. This property formerly was found to contain quantities of radioactive material from activities conducted for the Manhattan Engineer District (MED) (and its successor the Atomic Energy Commission (AEC)) from 1942 to 1948. Based on the analysis of all data collected, DOE has concluded that the property is in compliance with DOE radiological decontamination criteria and standards and that no radiological restrictions on the use of the property are required.

ADDRESSES: The certification docket is available at the following locations:

U.S. Department of Energy, Public Reading Room, Room 1E-190, Forrestal Building, 1000 Independence Avenue, SW., Washington, DC 20585.

U.S. Department of Energy, DOE Information Center, 475 Oak Ridge Turnpike, Oak Ridge, Tennessee 37831.

Beverly Public Library, 32 Essex Street, Beverly, Massachusetts 01915.

FOR FURTHER INFORMATION, CONTACT: Donald Mackenzie, Health Physicist, U.S. Department of Energy, Ohio Office, Office of Site Closure, EM-31/Cloverleaf Building, 1000 Independence Avenue, SW., Washington, DC 20585-2040, Phone: (301) 903-7426, Fax: (301) 903-2385.

SUPPLEMENTARY INFORMATION: The U.S. DOE, Oak Ridge Operations Office (OR), Office of Environmental Management, has conducted remedial action at the Ventron site in Beverly, Massachusetts, under the Formerly Utilized Sites Remedial Action Program (FUSRAP). The objective of the program is to identify and remediate, or otherwise control, sites where residual radioactive contamination remains from activities carried out under contract to the MED/AEC during the early years of the nation's atomic energy program.

In October 1997, the Energy and Water Appropriations Act, 1998 transferred responsibility for management of FUSRAP to the U.S. Army Corps of Engineers (US ACE). Completion of the certification process was delayed pending preparation of a Memorandum of Understanding (MOU) between DOE and U.S. ACE with regard to completed, remediated sites such as the Ventron property. The MOU between the U.S. DOE and the U.S. ACE regarding Program Administration and Execution of the FUSRAP was signed by the parties in March 1999. Funding to proceed with the completion of DOE closure documentation for several FUSRAP sites, including the Ventron site, was obtained from U.S. ACE in late 2000. The closure documentation for these sites will document the cleanup and inform the public of their successful decontamination of radioactive contamination.

From 1942 to 1948, the Metal Hydrides Corporation (predecessor to the Ventron Corporation) conducted natural uranium processing operations under contract to the MED and its successor, the AEC. The MED/AEC contract operations at the Ventron site involved conversion of uranium oxide to uranium metal powder using calcium hydride. In a process used later at the facility, uranium oxide was reacted with hydrogen fluoride to produce uranium tetrafluoride, which was mixed with magnesium and heated to produce uranium metal. Other operations at the site involved recovery of uranium from scrap and turnings resulting from operations at a fuel fabrication plant in Hanford, Washington. Uranium-238 was identified as the primary contaminant of concern associated with MED/AEC activities. Two of the original buildings, which housed foundry facilities, were demolished between 1948 and 1950 (after completion of AEC surveying and decommissioning), and two other buildings (Buildings B and F) were erected at these locations. The remaining original buildings (Buildings A and A-1) contained furnaces, leaching facilities, a mixing room, a drying room, and analytical laboratories. The Alfa Building was used in later non-MED-related thorium operations, reportedly involving purification of thorium compounds. The primary radioactive contaminant resulting from this work was thorium-232.

In 1965, Metal Hydrides Corporation became the Ventron Corporation, which was acquired by the Thiokol Corporation in late 1976. In 1980, Ventron became a division of Morton Thiokol, Incorporated (renamed Morton International in 1990). The site was designated for remedial action under FUSRAP in 1986.

Site characterization was performed in 1992 using the Streamlined Approach for Environmental Restoration method, an expedited approach developed by DOE to quickly and efficiently conduct remedial investigations/feasibility studies at DOE facilities. This approach indicated several areas of contamination.

Primary radioactive contaminants were uranium-238, thorium-232, and radium-226. Residual radioactive contamination (primarily uranium) was identified in soil and in fill, material beneath four buildings, and elevated surface contamination was found in Buildings A and A-1. A Memorandum of Agreement (MOA) signed by DOE and Morton International in 1996 provided that FUSRAP would decontaminate all buildings containing radioactivity above DOE Order 5400.5 guidelines in effect at the time (whether of government or non-government origin) and that Morton would demolish the buildings.

Before remedial action began, the site was surveyed to delineate boundaries of radioactive contamination, supplement existing characterization information, and obtain radiological and chemical data needed to classify the waste generated during cleanup. Waste profile information was necessary to establish acceptability of the various waste streams at the Envirocare of Utah low-level radioactive waste disposal facility in Clive, Utah. Cleanup activities were conducted in full compliance with applicable Federal and State waste management and transportation requirements.

Radiological decontamination of the Ventron site by the DOE occurred in two phases: In September 1995, and from May 1996 to March 1997. Supplemental sampling of the site to verify the adequacy of radiological remediation was performed in July 1997.

In September 1995, the first phase of DOE remediation of site tidal flats (harbor) adjacent to the seawall began. During this first phase of remediation, a walkover was performed over the entire harbor down to the low-tide mark, and areas with elevated levels of radioactive materials were targeted for remediation. Elevated readings were found in three areas. Excavations were completed in the first two areas, and post-remedial action samples were collected. Excavation was halted in the third area because contamination in that area was too extensive to be removed by manual methods. During the second phase of the remedial action, this third area was remediated and post-remedial action samples were collected.

Pursuant to the MOA between DOE and Morton International, several onsite buildings were demolished and the crushed building rubble was sampled. Rubble meeting DOE guidelines contained in DOE Order 5400.5 was stockpiled and used as backfill along the seawall. Building slabs were surveyed and either decontaminated and left in place or removed and disposed of with other contaminated material.

Excavation of contaminated materials was the primary remedial action technique used at the Ventron site. Eleven discrete areas of the site were excavated and verified for compliance with radiological cleanup criteria. Excavations occurred beneath demolished buildings, in the northwest corner of the site, and in the harbor area.

Post-remedial action surveys conducted in 1996 and 1997 have demonstrated, and DOE has certified, that the subject property is in compliance with DOE radiological decontamination criteria and standards in effect at the conclusion of remedial action. These criteria and standards are established to protect members of the general public and occupants of the site and to ensure that reasonably foreseeable future use of the site will result in no radiological exposure above applicable guidelines. Accordingly, this property is released from the FUSRAP program. These findings are supported by the DOE's Certification Docket for the Remedial Action Performed at the Ventron site in Beverly, Massachusetts. DOE makes no representation regarding the condition of the site as a result of activities conducted subsequent to DOE's post-remedial action surveys.

The certification docket will be available for review between 9 a.m. and 4 p.m., Monday through Friday (except Federal holidays), in the DOE Public Reading Room located in Room 1E-190 of the Forrestal Building, 1000 Independence Avenue, SW., Washington, DC. Copies of the certification docket will also be available in the DOE Information Center, 475 Oak Ridge Turnpike, Oak Ridge, Tennessee, 37831, and the Beverly Public Library, 32 Essex Street, Beverly, Massachusetts, 01915.

The DOE, through the Office Director, Ohio Office (EM-31), Deputy Assistant Secretary for Office of Site Closure (EM-30), the Assistant Secretary for the Office Environmental Management (EM), has issued the following statement:

Statement of Certification: Ventron Site in Beverly, Massachusetts

The DOE, Oak Ridge Operations Office (OR), Office of Environmental Management, Oak Ridge Reservation, Remediation Management Group, and the U.S. DOE Office of Environmental Management (EM), Office of Site Closure (EM-30), Ohio Office (EM-31), has reviewed and analyzed the radiological data obtained following remedial action at the Ventron site in Beverly, Massachusetts, (Deed Book 10091, Page 339, in the records of Essex County, Massachusetts). Based on the analysis of all data collected, including post-remedial action surveys, DOE certifies that any residual contamination remaining onsite at the time remedial actions were completed falls within DOE radiological decontamination criteria and standards for use of the property without radiological restrictions. This certification of compliance provides assurance that reasonably foreseeable future use of the site will result in no radiological exposure above DOE radiological criteria and standards for protecting members of the general public and occupants of the property.

Property owned by: Morton International, Incorporated, 123 North Wacker Drive, Chicago, Illinois, 60606.

Issued in Germantown, Maryland.
Sally A. Robison,
Office Director, Ohio Office, Office of Site Closure.

[FR Doc. 03-26517 Filed 10-20-03; 8:45 am]

BILLING CODE 6450-01-P